DEPARTMENT OF ENERGY

Senior Executive Service Performance Review Board

AGENCY: Department of Energy.

ACTION: Designation of Performance Review Board Standing Register.

SUMMARY: This notice provides the Performance Review Board Standing Register for the Department of Energy. This listing supersedes all previously published lists of PRB members.

DATES: This appointment is effective as of September 30, 2019.

SUPPLEMENTARY INFORMATION:

Carter, Brian

Dehaven, Darrel

Isom, Pamela

Johnson Jr., Thomas

Kim, Dong

Kremer, Kevin

Lee, Terri

Lippold, David

Livengood, Joanna

Lushetsky, John

Marlay, Robert

Moore, Johnny

Moreno, Francisco

O'Konski, Peter

Rasar, Kimberly

Reilly, Thomas

Satyapal, Sunita

Srinivasan, Nanda

Tyner, Teresa

Welling, David Craig

Signed in Washington, DC, on October 2, 2019.
Erin S. Moore,
Director, Office of Corporate Executive Management, Office of the Chief Human Capital Officer.

[FR Doc. 2019-22680 Filed 10-16-19; 8:45 am]

BILLING CODE 6450-01-P